FEDERAL TRADE COMMISSION

Granting of Request for Early Termination of the Waiting Period Under the Premerger Notification Rules

Section 7A of the Clayton Act, 15 U.S.C. 18a, as added by Title II of the Hart-Scott-Rodino Antitrust Improvements Act of 1976, requires person contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET Date | Trans No. | ET Req Status | Party Name
27-MAY-03 | 20030602 | G | Biovail Corporation
|  | G | Wyeth
|  | G | American Cyanamid Company
|  | G | Wyeth Pharmaceuticals Inc.
| 20030613 | G | Tekelec
|  | G | Santera Systems Inc.
|  | G | Santera Systems Inc.
| 20030615 | G | Delta Electronics (Thailand) Public Company Limited
|  | G | Ascom Holding AG
|  | G | Ascom India Prive Ltd.
|  | G | Ascom Rompower, Inc.
|  | G | Ascom Energy Systems GmbH
|  | G | Ascom Energy Systems (Guangzhou) Ltd.
|  | G | Ascom UK Limited
|  | G | Ascom Energy Systems AG
|  | G | Ascom Spain SA
|  | G | scom Praha spol. s.r.o.
| 20030622 | G | Johnson & Johnson
|  | G | Helmut D. Link
|  | G | Link Spine Group, Inc.
|  | G | Link Holding Company, Inc.
| 20030632 | G | Swift Transportation Co., Inc.
|  | G | Wal-Mart Stores, Inc.
|  | G | Merit Distribution Services, Inc.
| 20030639 | G | Bank One Corporation
|  | G | Quintiles Transnational Corp.
|  | G | Quintiles Transnational Corp.
| 20030640 | G | Barry Diller
|  | G | LendingTree, Inc.
|  | G | LendingTree, Inc.
28-MAY-03 | 20030627 | G | Fenway Partners Capital Fund II, L.P.
|  | G | Lincolnshire Equity Fund II, L.P.
|  | G | Riddell Sports Group, Inc.
| 20030628 | G | Carlyle Partners III, L.P.
|  | G | The UIS Industries, Inc. Voting Trust.
|  | G | Pioneer, Inc.
|  | G | Neapco Inc.
|  | G | Wells Manufacturing Corporation.
|  | G | Champion Laboratories, Inc.
|  | G | Mid-South Mfg., Inc.
|  | G | Airtex Products, LLC.
|  | G | Automotive Accessory Co. Ltd.
|  | G | Talleres Mecanicos Montserrat, S.A. de C.V.
|  | G | Brummer Mexicana en Puebla, S.A. de C.V.
|  | G | Brummer Seal de Mexico, S.A. de C.V.
|  | G | Wells Manufacturing Canada Limited.
|  | G | Airtex Products S.A.
|  | G | UIS Industries, Ltd.
| 20030631 | G | Petroliam Nasional Berhad.
|  | G | Neptune Orient Lines Limited.
|  | G | American Eagle Tankers Inc. Limited.
| 20030634 | G | Hewitt Holdings LLC.
|  | G | Michael D. Blair.
|  | G | Cybord Worldwide, Inc.
| 20030637 | G | SKM Equity Fund III, L.P.
|  | G | Murray's Inc.
|  | G | Murray's Inc.
| 20030638 | G | Green Equity Investors III, L.P.
|  | G | Werner Holding Co. (PA), Inc.
|  | G | Werner Holding Co. (PA), Inc.
| 20030643 | G | Odyssey Investment Partners Fund., L.P.
|  | G | Scott K. Lemay.
|  | G | United Site Services, Inc.
29-MAY-03 | 20030295 | G | Southern Union Company.
|  | G | CMS Energy Corporation.
|  | G | Panhandle Eastern Pipeline Company.
| 20030626 | G | McCormick & Company, Inc.
|  | G | Zatarain's Brands, Inc.
|  | G | Zatarain's Brands, Inc.
| 20030641 | G | Olympus Growth Fund III, L.P.
|  | G | Mettis Group Limited.
|  | G | Mettis (UK) Limited.
| 20030642 | G | Brockway Moran & Partners Fund II, L.P.
|  | G | KKR-FS Associates II LLC.
|  | G | WS Acquisition Corp.
| 20030645 | G | Health Management Associates, Inc.
|  | G | Sisters of Providence, Mother Joseph Providence.
|  | G | Providence Health System—Washington.
|  | G | Providence Home Care and Hospice.
|  | G | Providence Toppenish Hospital.
|  | G | John Gabriel Ryan Association.
|  | G | Providence Yakima Medical Center.
02-JUN-03 | 20030612 | G | Probitas Pharma, S.A.
|  | G | Mitsubishi Chemical Corporation.
|  | G | Alpha Therapeutic Corporation.
| 20030649 | G | Palomino Fund Ltd.
|  | G | Conseco, Inc.
|  | G | Conseco, Inc.
| 20030655 | G | Comcast Corporation.
|  | G | George Lane.
|  | G | Advanced TeleMedia, LLC
| 20030657 | G | Ripplewood Partners II, L.P.
|  | G | Lillian Vernon Corporation.
|  | G | Lillian Vernon Corporation.
| 20030658 | G | Citadel Broadcasting Corporation.
|  | G | Wicks Communications & Media Partners, L.P.
|  | G | Wilks Broadcasting LLC.
| 20030659 | G | Tellabs, Inc.
|  | G | Vivace Networks, Inc.
|  | G | Vivace Networks, Inc.
04-JUN-03 | 20030644 | G | Yorktown Energy Partners, IV, L.P.
|  | G | Duke Energy Corporation.
|  | G | Duke Energy Field Services, L.P.
|  | G | AIM Pipeline, LLC.
|  | G | Duke Energy Intrastate Pipeline, LLC.
|  | G | Duke Energy Field Services Marketing, LLC.
| 20030654 | G | Career Education Corporation.
|  | G | Whitman Education Group, Inc.
|  | G | Whitman Education Group, Inc.
| 20030656 | G | Nautic Partners V, L.P.
|  | G | Barry L. Downing.
|  | G | Corporate Lodging Consultants, Inc.
|  | G | Crew Transport Services, Inc.
|  | G | Crew Transport Specialists, Inc.
05-JUN-03 | 20030614 | G | ScanSoft, Inc.
|  | G | SpeechWorks International, Inc.
|  | G | SpeechWorks International, Inc.

FOR FURTHER INFORMATION CONTACT: Sandra M. Peay, Contact Representative, or Renee Hallman, Legal Technician, Federal Trade Commission, Premerger Notification Office, Bureau of Competition, Room H-303, Washington, DC 20580, (202) 326-3100.

By Direction of the Commission.
Donald S. Clark,
Secretary.

[FR Doc. 03-15368 Filed 6-17-03; 8:45 am]

BILLING CODE 6750-01-M